DEPARTMENT OF ENERGY

Federal Energy Regulatory Commission

[Docket Nos. RM 98-10-000, et al.]

Regulation of Short-Term Natural Gas Transportation Services, Regulation of Interstate Natural Gas Transportation Services; Notice of Compliance Filing

August 22, 2000.

In the matter of: RM98-10-000, RM98-12-000, RP00-480-000, RP00-473-000, RP00-458-000, RP00-486-000, RP00-469-000, RP00-462-000, RP00-478-000, RP00-498-000, RP00-474-000, RP00-493-000, RP00-492-000, RP00-467-000, RP00-491-000, RP00-488-000, RP00-482-000, RP00-483-000, RP00-470-000, RP00-476-000, RP00-471-000, RP00-485-000, RP00-464-000, RP00-477-000, RP00-468-000, RP00-495-000, RP00-460-000, RP00-479-000, RP00-459-000, RP00-481-000, RP00-490-000, RP00-475-000, RP00-465-000, RP00-487-000, RP00-472-000, RP00-466-000, RP00-497-000, RP00-461-000, RP00-494-000, RP00-463-000, RP00-484-000, RP00-489-000; Alliance Pipeline L.P., Carnegie Interstate Pipeline Co., Clear Creek Storage Company, L.L.C., Cove Point LNG Limited Parnership, East Tennessee Natural Gas Co., Equitrans, L.P., Honeoye Storage Corp., Koch Gateway Pipeline Co., Maritimes & Northeast Pipeline, L.L.C., Midcoast Interstate Transmission, Inc., Mid Louisiana Gas Co., Midwestern Gas Transmission Co., Petal Gas Storage, L.L.C., Portland Natural Gas Transmission System, Reliant Energy Gas Transmission Co., Sabine Pipe Line LLC, Sea Robin Pipeline Co., Southern Natural Gas Co., Southwest Gas Storage Co., Steuben Gas Storage Co., Stingray Pipeline Company, Tennessee Gas Pipeline Co., Texas Eastern Transmission Corp., Texas Gas Transmission Corp., Total Peaking Services, L.L.C., Trailblazer Pipeline Co., TransColorado Gas Transmission Co., Transcontinental Gas Pipe Line Corp., Transwestern Pipeline Co., Trunkline Gas Co., Trunkline LNG Co., Tuscarora Gas Transmission Co., USG Pipeline Co., U-T Offshore System, L.L.C., Viking Gas Transmission Co., West Gas Interstate Company, Williams Gas Pipelines Central, Inc., Williston Basin Interstate Pipeline Co., Wyoming Interstate Co., Ltd., Young Gas Storage Co., Ltd.; Notice of Compliance Filing.

Take notice that on August 15, 2000, and August 16, 2000, the above-referenced pipelines tendered for filing their pro forma tariff sheets respectively in compliance with Order Nos. 637 and 637-A.

On February 9 and May 19, 2000 the Commission issued Order Nos. 637 and 637-A, respectively, which prescribed new regulations, implemented new policies and revised certain existing regulations respecting natural gas transportation in interstate commerce. The Commission directed pipelines to file pro forma tariff sheets to comply with the new regulatory requirements regarding scheduling procedures, capacity segmentation, imbalance management services and penalty credits, or in the alternative, to explain why no changes to existing tariff provisions are necessary.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 14, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-21852 Filed 8-25-00; 8:45 am]

BILLING CODE 6717-01-M